DEPARTMENT OF AGRICULTURE

Food Safety Inspection Service

[Docket No. FSIS-2010-0001]

Nominations for Membership on the National Advisory Committee on Microbiological Criteria for Foods

AGENCY: Food Safety and Inspection Service, USDA.

ACTION: Notice.

SUMMARY: This notice announces that the U.S. Department of Agriculture (USDA) is soliciting nominations for membership on the National Advisory Committee on Microbiological Criteria for Foods (NACMCF). FSIS inadvertently published this information with errors on June 30, 2010, at 75 FR 37754. The Agency, therefore, is withdrawing the June 30, 2010, notice and publishing the correct version of the notice below. This notice is being issued to fill twelve vacancies on the NACMCF that resulted from a USDA change in the member term limit. Appointments to the NACMCF for two-year terms will now be renewable for up to two consecutive terms instead of three consecutive terms.

Please note that nominations that were provided in response to the previously issued Federal Register notice dated August 18, 2008 (73 FR 48191) will be considered for these vacancies, so they do not need to be resubmitted.

NACMCF is seeking members with scientific expertise in the fields of epidemiology, food technology, microbiology (food, clinical, and predictive), toxicology, chemistry, risk assessment, infectious disease, biostatistics, and other related sciences. NACMCF is seeking applications from persons from the Federal government, State governments, industry, consumer groups, and academia, as well as all other interested persons with such expertise.

Members who are not Federal government employees will be appointed to serve as non-compensated special government employees (SGEs). SGEs will be subject to appropriate conflict of interest statutes and standards of ethical conduct.

USDA is also seeking nominations for one individual affiliated with a consumer group to serve on the NACMCF. This member will serve as a representative member to provide a consumer viewpoint. This member will not be required to have a scientific background and will not be subject to conflict of interest review.

To receive consideration for serving on the NACMCF, a resume and USDA Advisory Committee Membership Background Information form AD-755 are required. The nominee's typed resume or curriculum vitae must be limited to five one-sided pages and should include educational background, expertise, and a select list of publications. For submissions received that are more than five one-sided pages in length, only the first five pages will be considered.

DATES: Nominations, including the nominee's typed resume or curriculum vitae and a USDA Advisory Committee Membership Background Information form AD-755 must be received by August 9, 2010. USDA Advisory Committee Membership Background Information form AD-755 is available on-line at: http://www.ocio.usda.gov/forms/doc/AD-755.pdf.

ADDRESSES: Resumes and AD-755 forms can be sent by mail, fax, or e-mail to Ms. Karen Thomas-Sharp, Advisory Committee Specialist, USDA, Food Safety and Inspection Service, Room 333 Aerospace Center, 1400 Independence Avenue, SW., Washington, DC 20250-3700, fax number: 202-690-6634, e-mail address: Karen.Thomas-Sharp@fsis.usda.gov. Please note, if using an overnight courier, use this address: USDA, FSIS, OPHS, Aerospace Center, 901 D Street, SW., Room 378, Washington, DC 20024.

The Food Safety and Inspection Service (FSIS) invites interested persons to submit comments on this notice. Comments may be submitted by either of the following methods:

Federal eRulemaking Portal: This Web site provides the ability to type short comments directly into the comment field on this Web page or attach a file for lengthier comments. Go to http://www.regulations.gov. Follow the online instructions at that site for submitting comments.

Mail, including floppy disks or CD-ROMs, and hand- or courier-delivered items: Send to Docket Clerk, USDA, FSIS, Room 2-2127, George Washington Carver Center, 5601 Sunnyside Avenue, Mailstop 5474, Beltsville, MD 20705-5474.

Instructions: All items submitted by mail or electronic mail must include the Agency name and docket number FSIS-2010-0001. Comments received in response to this docket will be made available for public inspection and posted without change, including any personal information, to http://www.regulations.gov.

Docket: For access to background documents or to comments received, go to the FSIS Docket Room at the address listed above between 8:30 a.m. and 4:30 p.m., Monday through Friday. All comments submitted in response to this notice, as well as background information used by FSIS in developing this document, will be available for public inspection in the FSIS Docket Room at the address listed above between 8:30 a.m. and 4:30 p.m., Monday through Friday.

FOR FURTHER INFORMATION CONTACT: Ms. Karen Thomas-Sharp, Advisory Committee Specialist, at the above address or by telephone at 202-690-6620 or by fax at 202-690-6634.

SUPPLEMENTARY INFORMATION:

Background

The NACMCF was established in March 1988, in response to a recommendation in a 1985 report of the National Academy of Sciences Committee on Food Protection, Subcommittee on Microbiological Criteria, “An Evaluation of the Role of Microbiological Criteria for Foods.” The current charter for the NACMCF and other information about the Committee are available for viewing on the NACMCF homepage at http://www.fsis.usda.gov/About_FSIS/NACMCF/index.asp.

The Committee provides scientific advice and recommendations to the Secretary of Agriculture and the Secretary of Health and Human Services concerning the development of microbiological criteria by which the safety and wholesomeness of food can be assessed. For example, the Committee assists in the development of criteria for microorganisms that indicate whether food has been processed using good manufacturing practices.

Appointments to the Committee will be made by the Secretary of Agriculture after consultation with the Secretary of Health and Human Services to ensure that recommendations made by the Committee take into account the needs of the diverse groups served by the Department.

Membership shall include, to the extent practicable, individuals with demonstrated ability to represent minorities, women, and persons with disabilities.

Given the complexity of issues, the full Committee expects to meet up to two times a year, and the meetings will be announced in the Federal Register. The subcommittees will meet as deemed necessary by the chairperson and will be held as working group meetings in an open public forum. Intermittently, subcommittees may also meet through computer-based conferencing (net meetings). Subcommittees may invite technical experts to present information for consideration by the subcommittee. The subcommittee meetings will not be announced in the Federal Register. FSIS will announce the agenda and subcommittee working group meetings through the Constituent Update, available on-line at http://www.fsis.usda.gov/news_&_events/Constituent_Update/index.asp.

NACMCF holds subcommittee working group meetings in order to accomplish the work of NACMCF; all work accomplished by the subcommittees is reviewed and approved by the full Committee during a public meeting of the full Committee, as announced in the Federal Register. All data and records available to the full Committee are expected to be available to the public at the time the full Committee reviews and approves the work of the subcommittee.

Appointment to the Advisory Committee is for a two-year term, renewable for up to two consecutive terms. Members are expected to attend all meetings in-person, as this is necessary for the functioning of this advisory committee. However, the Advisory Committee realizes that unexpected events or extenuating circumstances (e.g., a personal or family emergency) may result in a member's inability to attend a meeting in-person and that attendance through teleconferencing may be necessary. Because attendance through teleconferencing has been a less than optimal means to contribute to the work of the committee, members should make efforts to attend all meetings to the extent that this is possible.

Members must be prepared to work outside of scheduled Committee and subcommittee meetings and may be required to assist in document preparation. Committee members serve on a voluntary basis; however, travel reimbursement and per diem reimbursement are available.

Regarding Nominees Who Are Selected

All SGE and Federal government employee nominees who are selected must complete the Office of Government Ethics (OGE) 450 Confidential Financial Disclosure Report before rendering any advice or prior to their first meeting. All members will be reviewed for conflict of interest pursuant to 18 U.S.C. 208 in relation to specific NACMCF work charges. Financial disclosure updates will be required annually. Members must report any changes in financial holdings requiring additional disclosure. OGE 450 forms are available on-line at: http://www.usoge.gov/forms/form_450.aspx.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that minorities, women, and persons with disabilities are aware of this notice, FSIS will announce it online through the FSIS Web page located at http://www.fsis.usda.gov/regulations_&_policies/2010_Notices_Index/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts. Done at Washington, DC, on July 2, 2010.

Alfred V. Almanza,
Administrator.

[FR Doc. 2010-16818 Filed 7-7-10; 8:45 am]

BILLING CODE 3410-DM-P